DEPARTMENT OF THE INTERIOR

National Park Service

Notice of Inventory Completion: Alaska State Museum, Juneau, AK

AGENCY: National Park Service, Interior.

ACTION: Notice.

Notice is here given in accordance with the Native American Graves Protection and Repatriation Act (NAGPRA), 25 U.S.C. 3003, of the completion of an inventory of human remains in the possession of the Alaska State Museum, Juneau, AK. The human remains were removed from Steilacoom Creek, Pierce County, WA, and from an unrecorded site probably in the vicinity of Tacoma, Pierce County, WA.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by Alaska State Museum professional staff, a physical anthropologist, and a medical examiner with the State of Alaska, in consultation with the Muckleshoot Indian Tribe of the Muckleshoot Reservation, Washington; Nisqually Indian Tribe of the Nisqually Reservation, Washington; Puyallup Tribe of the Puyallup Reservation, Washington; and Tulalip Tribes of the Tulalip Reservation, Washington.

In 1957, two human crania representing a minimum of two individuals were donated to the Alaska Historical Library and Museum (now the Alaska State Museum), Juneau, AK, by Belle Simpson of Juneau, AK. The human remains were originally collected by Judge James Wickersham during his residence in Tacoma, WA, in 1883-1900. Museum records indicate that one cranium was removed from a canoe burial on Steilacoom Creek, Pierce County, WA, in 1892, and that the other cranium came from an unspecified location in the State of Washington. Since Judge Wickersham excavated in areas vacated as a result of the 1854 Medicine Creek Treaty, it is likely that the second cranium, listed in museum records as coming from “Washington state,” also came from the area around Tacoma, and that both human remains derive from 19th-century contexts. No known individuals were identified. No associated funerary objects are present.

Dr. Joel Irish, a physical anthropologist with the U.S. Department of Agriculture, Forest Service, examined the human remains in 1990. Both crania display an identical form of forehead flattening that was practiced by tribes of western Washington through the late 19th century. On the basis of the cranial modification exhibited by both sets of human remains, as well as other traits, Dr. Irish concluded that the human remains represented two Native American individuals.

On the basis of ethnohistorical, archeological, and geographic evidence presented at the time of consultation, the human remains are most likely affiliated with the Puyallup Tribe of the Puyallup Reservation, Washington. Archeological evidence from the area around Tacoma, WA, demonstrates a long uninterrupted occupation through the Prehistoric and Historic periods. The area where the human remains were collected falls within the historical territory of the Southern Lushootseed Salish and the Steilacoom people, who were consolidated on the Puyallup and Nisqually reservations as a result of the 1854 treaty. The present-day tribes most closely affiliated with the Southern Lushootseed Salish and the Steilacoom people are the Puyallup Tribe of the Puyallup Reservation, Washington and the Nisqually Indian Tribe of the Nisqually Reservation, Washington. The Nisqually Indian Tribe of the Nisqually Reservation, Washington supports the affiliation of the human remains to the Puyallup Tribe of the Puyallup Reservation, Washington.

Officials of the Alaska State Museum have determined that, pursuant to 25 U.S.C. 3001 (9-10), the human remains described above represent the physical remains of two individuals of Native American ancestry. Officials of the Alaska State Museum also have determined that, pursuant to 25 U.S.C. 3001 (2), there is a relationship of shared group identity that can be reasonably traced between the human remains and the Puyallup Tribe of the Puyallup Reservation, Washington.

Representatives of any other Indian tribe that believes itself to be culturally affiliated with the human remains should contact Bruce Kato, Chief Curator, Alaska State Museum, 395 Whittier Street, Juneau, AK 99801-1718, telephone (907) 465-4866, before June 2, 2003. Repatriation of the human remains to the Puyallup Tribe of the Puyallup Reservation, Washington may proceed after that date if no additional claimants come forward.

The Alaska State Museum is responsible for notifying the Muckleshoot Indian Tribe of the Muckleshoot Reservation, Washington; Nisqually Indian Tribe of the Nisqually Reservation, Washington; Puyallup Tribe of the Puyallup Reservation, Washington; and Tulalip Tribes of the Tulalip Reservation, Washington that this notice has been published.

Dated: March 20, 2003.
John Robbins,
Assistant Director, Cultural Resources.

[FR Doc. 03-10912 Filed 5-1-03; 8:45 am]

BILLING CODE 4310-70-S